DEPARTMENT OF AGRICULTURE

Animal and Plant Health Inspection Service

[Docket No. APHIS-2012-0023]

Changes to Scrapie Flock Certification Program

AGENCY: Animal and Plant Health Inspection Service, USDA.

ACTION: Notice and request for comments.

SUMMARY: We are giving notice of changes to the Scrapie Flock Certification Program (SFCP), a voluntary program for sheep and goat flock owners who wish to reduce and/or eliminate the risk of introducing classical scrapie into their flocks. In order to refocus the program's risk reduction strategy on animal sampling, we plan to eliminate the Complete Monitored category of the SFCP. This will affect all “Complete Monitored” and “Certified” flocks. Flock owners who are currently enrolled in the Complete Monitored or Certified category who wish to remain in the SFCP will be allowed to enroll in either the Select category or the Export category. This change will allow us to apply limited agency resources to areas that most effectively contribute to scrapie eradication, such as nationwide surveillance activities for the disease in sheep and goats.

DATES: We will consider all comments that we receive on or before June 3, 2013.

ADDRESSES: You may submit comments by either of the following methods:

• Federal eRulemaking Portal: Go to http://www.regulations.gov/#!documentDetail;D=APHIS-2012-0023-0001.

• Postal Mail/Commercial Delivery: Send your comment to Docket No. APHIS-2012-0023, Regulatory Analysis and Development, PPD, APHIS, Station 3A-03.8, 4700 River Road Unit 118, Riverdale, MD 20737-1238.

Supporting documents and any comments we receive on this docket may be viewed at http://www.regulations.gov/#!docketDetail;D=APHIS-2012-0023 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Alan Huddleston, Associate National Scrapie Program Coordinator, National Center for Animal Health Programs, VS, APHIS, 4700 River Road Unit 39, Riverdale, MD 20737-1231; (301) 851-3497.

SUPPLEMENTARY INFORMATION: Scrapie is a degenerative and ultimately fatal disease affecting the central nervous systems of sheep and goats. It belongs to a group of diseases called transmissible spongiform encephalopathies. The Animal and Plant Health Inspection Service (APHIS), U.S. Department of Agriculture (USDA), administers a National Scrapie Eradication Program (NSEP) to eliminate classical scrapie from the United States. The Scrapie Flock Certification Program (SFCP), described in regulations at 9 CFR part 54, is a voluntary program within the broader NSEP. Producers who elect to join the SFCP agree to follow a set of requirements outlined in the “Scrapie Flock Certification Program Standards” (program standards). We plan to revise the program standards for the SFCP. The SFCP program standards may be viewed on the APHIS Web site at http://www.aphis.usda.gov/animal_health/animal_diseases/scrapie/. Printed copies may be obtained from the person listed above under FOR FURTHER INFORMATION CONTACT.

Since APHIS established the SFCP as part of the NSEP, SFCP participants have received tangible benefits from the program, including a reduced risk of introducing scrapie into the flock and an increased marketability of participating animals. However, APHIS has evaluated the effects of the SFCP on scrapie eradication and concluded that the SFCP does not support national scrapie eradication as effectively as other surveillance activities, such as the Regulatory Scrapie Slaughter Surveillance (RSSS) program, distribution of free eartags to sheep and goat producers, and disease investigations and flock clean ups. Due to budget reductions in fiscal year (FY) 2012 and anticipated reductions in upcoming fiscal years, the NSEP needs to focus resources on its most effective components. APHIS has therefore decided to revise the SFCP to focus resources on other surveillance activities. The revisions to the SFCP are expected to both increase the program's contributions toward surveillance by approximately 50 percent and to cut the cost of the voluntary program roughly in half, saving about $500,000 annually for surveillance activities. The revised SFCP will assist APHIS in continuing to move efficiently toward scrapie eradication.

Effects of the SFCP on Scrapie Eradication

Our analysis of the effects of the SFCP on scrapie eradication found:

• Participation in the SFCP is voluntary, and participating flocks represent only 1 percent of the total number of U.S. sheep flocks and goat herds

• Participation in the SFCP has declined by about 25 percent since 2007

• More owners are using genotyping to reduce a sheep flock's risk of infection than the voluntary flock certification program

• The Complete Monitored category of the SFCP does not efficiently detect scrapie cases

Surveillance and disease response activities are the most effective components of the scrapie program with regard to eradication. The ability to detect clinically healthy but infected animals and successfully trace them back to their infected and source flocks has decreased scrapie prevalence by 85 percent, from 0.2 percent in 2002-2003 to less than 0.03 percent at the end of FY 2011. The most effective activities include:

• The RSSS program

• The distribution of free official eartags to sheep and goat producers

• Compliance enforcement at animal concentration points

• Disease investigations

Decreased funding for these elements means that many of the remaining scrapie-infected animals in the United States may go undetected. This could cost the sheep and goat industries approximately $10 million to $20 million each year scrapie continues to be present in our national sheep and goat population.

The SFCP is a voluntary State-Federal-industry cooperative effort established and maintained to monitor flocks and certify the scrapie status of the animals enrolled in the program. Any sheep or goat owner or manager may apply to participate in the SFCP. There are three categories of enrollment. The Selective Monitored category has the lowest level of monitoring, and flocks participating in this category cannot become certified. The Complete Monitored category has a higher level of monitoring, and flocks can achieve Certified status after 5 years. The Export Monitored category has the highest level of monitoring, and flocks can become Export Certified after 7 years. Approximately 94 percent of all participating flocks are in the Complete Monitored category. The most significant cost of the SFCP is the annual inspection, which is currently required for every flock participating in the program.

The revised SFCP will eliminate the Complete Monitored category. Participants in this category will have the following options: (1) Join a revised Selective Monitored category; (2) join the Export Monitored category; or (3) withdraw from the program. The Selective Monitored category will be renamed Select Monitored, to be consistent with the common category reference used by the sheep and goat industry. The revised Select Monitored category will no longer be subject to the annual inspection of all animals conducted by an APHIS or State representative under the former Selective Monitored category. We expect that 40 percent to 60 percent of current Complete Monitored category participants will either join the Select category or withdraw from the program, and the remaining 40 to 60 percent will join the Export Monitored category. Because the revised Select Monitored category would no longer require an annual inspection, the cost of the SFCP will be cut roughly in half, saving about $500,000 annually for surveillance activities. Additionally, the Select Monitored category will have a new sampling requirement; flocks that join the Select Monitored and Export Monitored categories will therefore contribute a greater number of animals for scrapie testing than in the current program. The reduced cost of the SFCP and the increased surveillance achieved through the revised program will allow APHIS to continue to move efficiently toward full scrapie eradication.

If a participant with a flock currently in the Complete Monitored category chooses to join the Export Monitored category instead of the Select Monitored category, the flock will become an Export Monitored flock with the same status date that it held on its conversion date. If it is a Certified flock, it will become an Export Monitored flock with 5 years of time in status. APHIS will list the flock as both an Export Monitored flock and a Certified flock on its Web site for 3 years or until it achieves Export Certified status. After 3 years, flocks that have not achieved Export Certified status would be listed only as Export Monitored. Most former Certified flocks that join should be able to achieve Export Certified status within 2 years, since Certified status required 5 years of successful monitoring and Export Certified status requires 7 years.

We welcome public comment on this notice and the proposed revisions to the SFCP program standards. If no substantive changes to the revised SFCP are deemed necessary by the APHIS Administrator, the revised SFCP program will come into effect 7 days after the close of the comment period for this notice. If substantive changes are deemed necessary, we will publish an additional document in the Federal Register to discuss them; otherwise, the final version of the revised SFCP program standards will be announced and made available on the APHIS Web site at http://www.aphis.usda.gov/animal_health/animal_diseases/scrapie/.

Done in Washington, DC, this 29th day of April 2013.
Kevin Shea,
Acting Administrator, Animal and Plant Health Inspection Service.

[FR Doc. 2013-10543 Filed 5-2-13; 8:45 am]

BILLING CODE 3410-34-P